DEPARTMENT OF TRANSPORTATION

Federal Railroad Administration

[Docket Number FRA-2025-0030]

Notice of Petition for Waiver of Compliance

AGENCY: Federal Railroad Administration (FRA), Department of Transportation (DOT).

ACTION: Notice.

SUMMARY: This document provides the public notice that Sonoma-Marin Area Rail Transit (SMART) District petitioned FRA for relief from certain regulations concerning safety appliances.

DATES: FRA must receive comments on the petition by May 30, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Harry Weisinger, Railroad Safety Specialist, FRA Motive Power & Equipment Division, telephone: 202-493-0036, email: harold.weisinger@dot.gov.

SUPPLEMENTARY INFORMATION: Under part 211 of title 49 Code of Federal Regulations (CFR), this document provides the public notice that by letter received February 7, 2025, SMART petitioned FRA for a waiver of compliance from certain provisions of the Federal railroad safety regulations contained at 49 CFR part 231 (Railroad Safety Appliance Standards). FRA assigned the petition Docket Number FRA-2025-0030.

Specifically, SMART seeks relief from § 231.14(f)(4)(i), Passenger-train cars without end platforms, which states that side door steps “exceeding 18 inches in depth shall have an additional tread and be laterally braced.” SMART's 18 Nippon Sharyo diesel multiple units (DMUs) operating in passenger service each currently have four compliant, 2-ring sill steps that occasionally cause crews to enter and exit cars where they must step more than 24 inches to the ground, which increases safety risks. SMART explains that it has tested a 3-ring sill step that reduces the distance to the ground to 14 inches, but SMART finds that lateral bracing on these steps “is impractical and would make repairs and maintenance on the equipment mounted behind the sill steps more difficult.” SMART proposes “to add a third step to the existing two step configuration” to “reduce injury risk for our employees that have to mount/dismount the equipment outside of the maintenance facility.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by May 30, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-07485 Filed 4-29-25; 8:45 am]

BILLING CODE 4910-06-P